DEPARTMENT OF THE INTERIOR

Bureau of Land Management

[SDM 94312]

Notice of Proposed Withdrawal and Opportunity for Public Meeting; Montana

AGENCY: Bureau of Land Management, Interior.

ACTION: Notice.

SUMMARY: The Secretary of Agriculture has filed a withdrawal application asking the Secretary of the Interior to withdraw from mining 5,170.20 acres of public land, the surface of which is reserved as part of the Black Hills National Forest, Custer County, South Dakota.

DATES: Comments and requests for a public meeting must be received by August 4, 2005.

ADDRESSES: Comments and meeting requests should be sent to the Forest Supervisor, Black Hills National Forest, 25041 N. Highway 16, Custer, South Dakota 57730, acting at the request of the BLM State Director, Montana, 5001 Southgate Drive, P.O. Box 36800, Billings, Montana 59107.

FOR FURTHER INFORMATION CONTACT: Sandra Ward, BLM Montana State Office, 406-896-5052, or Valerie Hunt, Forest Service, Rocky Mountain Region, 303-275-5071.

SUPPLEMENTARY INFORMATION: The United States Department of Agriculture, acting through the Forest Service, has filed an application with the Bureau of Land Management to withdraw the following-described public land, the surface of which is reserved as part of the Black Hills National Forest, from location or entry under the United States mining laws, subject to valid existing rights:

Black Hills National Forest

Black Hills Meridian

T. 4 S., R. 2 E.,

Sec. 12, E½SW¼ and SE¼;

Sec. 13, E½ and E½NW¼.

T. 4 S., R. 3 E.,

Sec. 5, lots 3 to 16, inclusive;

Sec. 6, lots 1 to 5, inclusive, S½NE¼, SE¼NW¼, and E½SE¼;

Sec. 7, lots 3 and 4, E½NE¼, E½SW¼, and SE¼;

Sec. 8, lots 1 to 16, inclusive;

Sec. 9, lots 4 to 8, inclusive, and lots 11 to 14, inclusive;

Sec. 16, lots 4, 5, 8, and 9, NW¼NW¼ and SE¼SW¼;

Sec. 17, lots 1 to 14, inclusive;

Sec. 18, lots 1 to 4, inclusive, E½, and E½W½;

Sec. 19, lots 1 and 2, NE¼, and E½NW¼;

Sec. 20, lots 1 to 9, inclusive, S½NE¼, SW¼NW¼, NW¼SW¼, S½SW¼, and N½SE¼;

Sec. 21, lots 1 to 9 inclusive, and NW¼SW¼;

Sec. 28, lots 1, 2, and 3, SE¼NW¼;

Sec. 29, lot 1, NW¼NE¼, S½NE¼, and NW¼.

The area described contains 5,170.20 acres in Custer County.

The purpose of the proposed withdrawal is to protect and preserve unique cave resources, including the caverns of great scientific and public interest, located around the Jewel Cave National Monument, one of the largest known cave systems in the world.

The use of a right-of-way or cooperative agreement would not provide adequate protection for this area due to the broad scope and nondiscretionary nature of the general mining laws.

As proposed, the withdrawal would be for a period of 20 years.

No alternative sites are feasible.

No water will be needed to fulfill the purpose of the requested withdrawal.

For a period of 90 days from the date of publication of this notice, all persons who wish to submit comments, suggestions, or objections in connection with the proposed withdrawal may present their views in writing to the Forest Supervisor, Black Hills National Forest.

Comments, including names and street addresses of respondents, will be available for public review at the Forest Supervisor's Office, Black Hills National Forest, 25041 N. Highway 16, Custer, South Dakota 57730, during regular business hours. Individual respondents may request confidentiality. If you wish to withhold your name or address from public review or from disclosure under the Freedom of Information Act, you must state this prominently at the beginning of your comments. Such requests will be honored to the extent allowed by law. All submissions from organizations or businesses, and from individuals identifying themselves as representatives or officials of organizations or busineses, will be made available for public inspection in their entirety.

Notice is hereby given that there will be at least one public meeting in connection with the proposed withdrawal to be announced at a later date. A notice of the time, place, and date will be published in the Federal Register and a local newspaper at least 30 days before the scheduled date of a meeting.

For a period of two years from the date of publication of this notice in the Federal Register, the land will be segregated from location or entry under the United States mining laws, unless the application is denied or canceled or the withdrawal is approved prior to that date. The land will remain open to other uses within the statutory authority pertinent to National Forest lands and subject to discretionary approval.

The application will be processed in accordance with the regulations set forth in 43 CFR 2300.

(Authority: 43 U.S.C. 1714 (b)(1); 43 CFR 2310.3-1(a).)

Dated: February 10, 2005.
Randy D. Heuscher,
Acting Deputy State Director, Division of Resources.

[FR Doc. 05-9088 Filed 5-5-05; 8:45 am]

BILLING CODE 3410-11-P